DEPARTMENT OF TRANSPORTATION

Federal Aviation Administration

Notice of Intent to Rule on Application 01-04-C-00-HTS to Impose and Use the Revenue from a Passenger Facility Charge (PFC) at Tri-State Airport, Huntington, West Virginia

AGENCY: Federal Aviation Administration (FAA), DOT.

ACTION: Notice of intent to rule on application.

SUMMARY: The FAA proposes to rule and invites public comment on the application to impose and use the revenue from a PFC at Tri-State Airport under the provisions of the Aviation Safety and Capacity Expansion Act of 1990 (Title IX of the Omnibus Budget Reconciliation Act of 1990) (Pub. L. 101-508) and Part 158 of the Federal Aviation Regulations (14 CFR part 158).

DATES: Comments must be received on or before July 13, 2001.

ADDRESSES: Comments on this application may be mailed or delivered in triplicate to the FAA at the following address: Beckley Airport Field Office, 176 Airport Circle, Rm. 101, Beaver, West Virginia, 25813-9350.

In addition, one copy of any comments submitted to the FAA must be mailed or delivered to Mr. Larry Salyers, Airport Manager, Tri-State Airport Authority at the following address: 1449 Airport Road, Unit 1, Box 12, Hunting, WV 25704-9043.

Air carriers and foreign air carriers may submit copies of written comments previously provided to the Tri-State Airport Authority under § 158.23 of part 158.

FOR FURTHER INFORMATION CONTACT: Larry Clark, Manager, Airport Field Office, 176 Airport Circle, Rm. 101, Beaver, WV 25813-9350, at (304) 252-6216. The application may be reviewed in person at this same location.

SUPPLEMENTARY INFORMATION: The FAA proposes to rule and invites public comment on the application to impose and use the revenue from a PFC at Tri-State Airport under the provisions of the Aviation Safety and Capacity Expansion Act of 1990 (Title IX of the Omnibus Budget Reconciliation Act of 1990) (Pub. L. 101-508) and part 158 of the Federal Aviation Regulations (14 CFR part 158).

On May 29, 2001, the FAA determined that the application to impose and use the revenue from a PFC submitted by Tri-State Airport Authority was substantially complete within the requirements of § 158.25 of part 158. The FAA will approve or disapproved the application, in whole or in part, no latter than September 4, 2001.

The following is a brief overview of the application.

PFC Application No.: 01-04-C-00-HTS.

Level of the proposed PFC: $3.00.

Proposed charge effective date: May 1, 2002.

Proposed charge expiration date: January 1, 2005.

Total estimated PFC revenue: $451,906.

Brief description of proposed project(s):

—Preparation of PFC Application

—Wildlife Security Fencing

—Reconstruction of Taxiway A

—Airport Master Plan Update

—Terminal Improvement

—Wildlife Hazard Assessment

—Design and Rehabilitation Runway 12/30

Class or classes of air carriers, which the public agency has requested not be required to collect PFCs: non-scheduled/on demand air carriers and large charter certificated route air carriers.

Any person may inspect the application in person at the FAA office listed above under FOR FURTHER INFORMATION CONTACT and at the FAA regional airports office located at:

1 Aviation Plaza, Airports Division, AEA-610, John F. Kennedy International Airport, Jamaica, New York, 11434-4809

In addition, any person may, upon request, inspect the application, notice and other documents germane to the application in person at the Tri-State Airport Authority Office.

Dated: Issued in Jamaica, New York on May 29, 2001.
Thomas Felix,
Manager, Planning & Programming, Eastern Region.

[FR Doc. 01-14909 Filed 6-12-01; 8:45 am]

BILLING CODE 4910-13-M